SUSQUEHANNA RIVER BASIN COMMISSION

Commission Meeting

AGENCY: Susquehanna River Basin Commission.

ACTION: Notice.

SUMMARY: The Susquehanna River Basin Commission will conduct its regular business meeting on December 15, 2022 in Harrisburg, Pennsylvania. Details concerning the matters to be addressed at the business meeting are contained in the Supplementary Information section of this notice. Also the Commission published a document in the Federal Register on October 13, 2022, concerning its public hearing on November 3, 2022, in Harrisburg, Pennsylvania.

DATES: The meeting will be held on Thursday, December 15, 2022, at 9 a.m.

ADDRESSES: This public meeting will be conducted in person and digitally from the Susquehanna River Basin Commission, 4423 N Front Street, Harrisburg, Pennsylvania 17110.

FOR FURTHER INFORMATION CONTACT: Jason E. Oyler, General Counsel and Secretary to the Commission, telephone: 717-238-0423; fax: 717-238-2436.

SUPPLEMENTARY INFORMATION: The business meeting will include actions or presentations on the following items: (1) adoption of the regulatory program fee schedule for CY2023; (2) adoption of a resolution recognizing the 50th anniversary of the Clean Water Act; (3) approval of contracts, grants and agreements; (4) and actions on 13 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Susquehanna River Basin Commission Harrisburg headquarters and digitally. The public is invited to attend the Commission's business meeting. You can access the Business Meeting through a computer (Audio and Video) by following the link: https://srbc.webex.com/srbc/j.php?MTID=meb4986cc5831b88ea7d5b1ef5151e7b6 then enter meeting number 177 203 4471 and password CommBusMtg1215. You may also participant telephonically by dialing 1-877-668-4493 and entering the meeting number 177 203 4471 followed by the # sign.

Written comments pertaining to items on the agenda at the business meeting may be mailed to the Susquehanna River Basin Commission, 4423 North Front Street, Harrisburg, Pennsylvania 17110-1788, or submitted electronically through www.srbc.net/about/meetings-events/business-meeting.html. Such comments are due to the Commission on or before November 14, 2022. Comments will not be accepted at the business meeting noticed herein.

Authority: Public Law 91-575, 84 Stat. 1509 et seq., 18 CFR parts 806, 807, and 808.

Dated: November 8, 2022.
Jason E. Oyler,
General Counsel and Secretary to the Commission.

[FR Doc. 2022-24691 Filed 11-10-22; 8:45 am]

BILLING CODE P